DEPARTMENT OF AGRICULTURE

Food and Nutrition Service

Agency Information Collection Activities: Proposed Collection: Comment Request—Supplemental Nutrition Assistance Program's Quality Control Review Schedule Form FNS-380-1

AGENCY: Food and Nutrition Service (FNS), USDA.

ACTION: Notice.

SUMMARY: In accordance with the Paperwork Reduction Act of 1995, this notice invites the general public and other public agencies to comment on this proposed information collection. This is a revision of a currently approved collection.

DATES: Written comments must be received on or before January 3, 2023.

ADDRESSES: Comments may be sent to: John McCleskey, QC Branch chief, Food and Nutrition Service, U.S. Department of Agriculture, 1320 Braddock Place, 5th Floor, Alexandria, VA 22314. Comments may also be submitted via fax to the attention of John McCleskey, QC Branch chief at 703-457-7747 or via email to SNAPHQ-WEB@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to John McCleskey at 703-457-7747.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Quality Control Review Schedule.

Form Number: FNS 380-1.

OMB Control Number: 0584-0299.

Expiration Date: July 31, 2023.

Type of Request: Revision of a currently approved collection.

Abstract: The FNS-380-1, Quality Control Review Schedule (QCRS), was developed by the Food and Nutrition Service (FNS) for State use to collect both QC data and case characteristics for SNAP and to serve as the comprehensive data entry form for SNAP QC reviews. The legislative basis for the QC system is in Section 16 of the Food and Nutrition Act of 2008, as amended (the Act). Part 275, Subpart C, of SNAP regulations implements the legislative mandates found in Section 16. The regulatory basis for the QC reporting requirements is provided by 7 CFR 275.14(d) and 7 CFR 275.21. State agencies are required to perform QC reviews for SNAP. The information needed to complete this form is obtained from the SNAP case record through State agency quality control findings. The information is used to monitor and reduce errors, develop policy strategies, and analyze household characteristic data.

Reporting Burden Estimates

Affected Public: 53 State, Local and Tribal Governments.

Estimated Number of Responses per Respondent: 860.433962.

Estimated Total Annual Responses: 45,603 Reponses. This includes 53 State agencies updating State agency discretionary codes on the FNS 380-1 as well as reporting on them.

Estimated Time per Response: 1.05732258 hours. This includes 3 hours per State agencies to update discretionary codes annually, 0.25 hours per respondent to report on the updated discretionary codes to FNS, 1.056 hours per respondent to report the review findings of active reviews.

Estimated Total Annual Burden on Respondents: 48,217.08 hours.

Recordkeeping Burden Estimates

Affected Public: 53 State, Local and Tribal Governments.

Estimated Number of Responses per Respondent: 858.433962.

Estimated Total Annual Responses: 45,497 responses to report on sampled active case files for QC review and 45,497 records being maintained by State agencies.

Estimated Time per Response: 0.0236 hours to maintain records of the cases selected for the active review sample.

Estimated Total Annual Burden on Respondents: 1,073.7292.

Estimated Reporting and Recordkeeping Total Annual Burden on Respondents: 49,290.81 hours. There is no third-party reporting burden associated with this collection request.

See the table below for estimated total annual burden for each type of burden activities for State agency respondents.

Reporting and Recordkeeping Burden
Form number | Reg. section | Description of activity | Number of respondents | Est. number of responses per respondent | Est. total annual responses | Number hours per response | Est. total burden hours
Reporting Burden for FNS 380-1, OMB 0584-0299
FNS-380-1 | 275.14(d) | Review Processing-Schedules—Update SA Discretionary Codes | 53 | 1.0000 | 53 | 3 | 159.00
FNS-380-1 | 275.14(d) | Review Processing-Schedules- Report SA Discretionary code updates | 53 | 1.0000 | 53 | 0.25 | 13.25
FNS-380-1 | 275.12(f) | Reporting of Review Findings | 53 | 858.4340 | 45,497 | 1.0560 | 48,044.83
Subtotal |  |  | 53.00 | 860.433962 | 45,603.00 | 1.05732258 | 48,217.08

Form number | Reg. section | Description of activity | Number of record keepers | Est. number of records per record keeper | Est. total annual responses | Number hours per record to be maintained | Est. total burden hours
Recordkeeping Burden for FNS 380-1, OMB 0584-0299
FNS-380-1 | 275.4 | Record Retention | 53 | 858.433962 | 45,497 | 0.0236 | 1,073.7292
Grand Total Reporting and Recordkeeping Burden | 53.00 | 1,718.87 | 91,100.00 | 0.54110627 | 49,290.81

Tameka Owens,
Assistant Administrator, Food and Nutrition Service.

[FR Doc. 2022-23713 Filed 10-31-22; 8:45 am]

BILLING CODE 3410-30-P